COMMISSION ON CIVIL RIGHTS

Agenda and Notice of Public Meeting of the Ohio Advisory Committee

Notice is hereby given, pursuant to the provisions of the rules and regulations of the U.S. Commission on Civil Rights, that a planning meeting of the Ohio Advisory Committee to the Commission will convene at 1 p.m. and adjourn at 6 p.m. on Monday, November 24, 2003, and the Committee will convene at 9 a.m. to 4 p.m. on Tuesday, November 25, 2003 at the Ohio Civil Rights Commission, 1111 East Broad Street, Columbus, Ohio 43205. The purpose of the fact-finding meeting is to gather information on “Ohio Hate Crimes.”

Persons desiring additional information, or planning a presentation to the Committee, should contact Chairperson Lynwood L. Battle, Jr., 513-281-4330, or Constance M. Davis, Director of the Midwestern Regional Office, 312-353-8311 (TDD 312-353-8362). Hearing-impaired persons who will attend the meeting and require the services of a sign language interpreter should contact the Regional Office at least ten (10) working days before the scheduled date of the meeting.

The meeting will be conducted pursuant to the provisions of the rules and regulations of the Commission.

Dated at Washington, DC, November 4, 2003.
Ivy L. Davis,
Chief, Regional Programs Coordination Unit.

[FR Doc. 03-28949 Filed 11-19-03; 8:45 am]

BILLING CODE 6335-01-P